DEPARTMENT OF TRANSPORTATION

National Highway Traffic Safety Administration

[U.S. DOT Docket No. NHTSA-2010-0037]

Reports, Forms, and Record Keeping Requirements

AGENCY: National Highway Traffic Safety Administration (NHTSA), DOT.

ACTION: Request for public comment on proposed collection of information.

SUMMARY: Before a Federal agency can collect certain information from the public, it must receive approval from the Office of Management and Budget (OMB). Under procedures established by the Paperwork Reduction Act of 1995 (44 U.S.C. 3501 et seq.), before seeking OMB approval, Federal agencies must solicit public comment on proposed collections of information, including extensions and reinstatements of previously approved collections.

This document describes an Information Collection Request (ICR) for which NHTSA intends to seek OMB approval.

DATES: Comments must be submitted on or before June 1, 2010.

ADDRESSES: Direct all written comments to the U.S. Department of Transportation Dockets, 1200 New Jersey Ave., SE., Washington, DC 20590. Docket No. NHTSA-2010-0037.

FOR FURTHER INFORMATION CONTACT: Randolph Atkins, Ph.D., Contracting Officer's Technical Representative, Office of Behavioral Safety Research (NTI-131), National Highway Traffic Safety Administration, 1200 New Jersey Ave., SE., W46-500, Washington, DC 20590. Dr. Atkins' phone number is 202-366-5597 and his e-mail address is randolph.atkins@dot.gov.

SUPPLEMENTARY INFORMATION: Under the Paperwork Reduction Act of 1995, before an agency submits a proposed collection of information to OMB for approval, it must publish a document in the Federal Register providing a 60-day comment period and otherwise consult with members of the public and affected agencies concerning each proposed collection of information. The OMB has promulgated regulations describing what must be included in such a document. Under OMB's regulations (at 5 CFR 1320.8(d)), an agency must ask for public comment on the following:

(i) Whether the proposed collection of information is necessary for the proper performance of the functions of the agency, including whether the information will have practical utility;

(ii) The accuracy of the agency's estimate of the burden of the proposed collection of information, including the validity of the methodology and assumptions used;

(iii) How to enhance the quality, utility, and clarity of the information to be collected; and

(iv) How to minimize the burden of the collection of information on those who are to respond, including the use of appropriate automated, electronic, mechanical, or other technological collection techniques or other forms of information technology, e.g., permitting electronic submission of responses.

In compliance with these requirements, NHTSA asks public comment on the following proposed collection of information:

Title: Motivations for Speeding.

Type of Request: New information collection request—focus group follow-up with participants from an earlier on-road instrumented vehicle study.

OMB Clearance Number: N/A.

Form Number: This collection of information uses no standard forms.

Requested Expiration Date of Approval: September 3, 2011.

Summary of the Collection of Information: In Phase 1 of this study, the National Highway Traffic Safety Administration (NHTSA) conducted on-road instrumented vehicle data collection in Seattle, WA and College Station, TX with a total of 167 participants to examine driving speed patterns with the goals of understanding motivations for speeding. Based on speeding patterns in the data from the instrumented vehicle phase of this study, NHTSA plans to follow-up with these same subjects in focus groups in Phase 2 of the research to develop a better understanding of speeding and speeders, to develop a more accurate taxonomy of high/low speed driver subgroups and to gain a better understanding of the motives—as well as attitudes and habits—of these subgroups, and explore attitudes and behavioral influences pertinent to various countermeasures (e.g., points reduction courses, speed awareness courses, engineering countermeasures, and automated enforcement) and the acceptance and potential effectiveness of the countermeasures. The focus groups will include: general discussions of speed choices and speeding behaviors and the factors that influence them, discussions of beliefs and attitudes toward speeding, reactions to and discussions about specific driving scenarios, and individual/group responses to various speeding countermeasures. The focus groups are expected to provide data relevant to descriptions of key motivations, attitudes, normative commitment to law, driving habits relevant to speeding and speeding countermeasures; descriptions of countermeasures with the greatest likely benefits; implementation issues and concerns associated with the countermeasures; and key advantages and disadvantages associated with various countermeasures.

Description of the Need for the Information and Proposed Use of the Information—The National Highway Traffic Safety Administration (NHTSA) was established by the Highway Safety Act of l970 (23 U.S.C. 101) to carry out a Congressional mandate to reduce the mounting number of deaths, injuries, and economic losses resulting from motor vehicle crashes on the Nation's highways. Speeding is one of the primary factors leading to vehicle crashes. In 2008, 31% of all fatal crashes were speeding-related. The estimated economic cost to society for speeding-related crashes is $40.4 billion per year. Driving at higher speeds reduces the ability of drivers to avoid obstacles or react to sudden changes in the roadway environment and increases crash severity. The pervasiveness of speeding behavior is reflected in a recent national survey that showed that approximately 75% of all drivers reported speeding in the past month. Since most drivers often do not see speeding as risky or dangerous behavior, it is imperative that NHTSA gain a better understanding of the motivations for speeding behaviors in order to develop and refine effective interventions and countermeasures. These focus groups, directly linked to the driving speed patterns of drivers in Phase 1 of the study, will provide important new information on the reasons drivers choose to drive at certain speeds and what countermeasures would be most effective in reducing their speeding behaviors. In support of its mission, NHTSA will use the findings from these focus group sessions to improve current programs, interventions and countermeasures for speeding on our Nation's highways in order to achieve the greatest benefit in decreasing crashes and resulting injuries and fatalities, and provide informational support to States, localities, and law enforcement agencies that will aid them in their efforts to reduce traffic crashes.

Description of the Likely Respondents (Including Estimated Number, and Proposed Frequency of Response to the Collection of Information)—A subset of the participants who participated in the Phase 1 on-road study will be asked to participate in focus groups. Individual focus group sessions will be based on specific demographic or behavioral characteristics of the Phase 1 participants, with the constraint that the group composition should not be counterproductive to facilitating frank and open discussions of the key topics (i.e., combining young males and females in the same group is not an effective approach). The selection strategy will involve three focus groups at each location, (1) younger male chronic speeders, (2) younger female chronic speeders, and (3) older male and female situational and chronic speeders. These focus groups are expected to take place in the July/August 2010 timeframe. Session participation would be voluntary and compensated with a $75 honorarium.

Estimate of the Total Annual Reporting and Record Keeping Burden Resulting from the Collection of Information—NHTSA will conduct six focus group sessions, three in Seattle, WA and three in College Station TX. Each focus group will consist of 8-12 participants and last approximately 80 minutes. Participants will be recruited by e-mail or telephone based on their driving behaviors in Phase 1 of the study and their demographic characteristics. Therefore, the total estimated annual burden is between 64 and 96 hours, depending on the number of participants (range 8—12) in each group. The respondents would not incur any reporting cost from the information collection. The respondents also would not incur any record keeping burden or record keeping cost from the information collection.

Authority: 44 U.S.C. 3506(c)(2)(A).

Issued on: March 25, 2010.
Jeff Michael,
Associate Administrator, Research and Program Development.

[FR Doc. 2010-7130 Filed 3-30-10; 8:45 am]

BILLING CODE 4910-59-P